DEPARTMENT OF THE INTERIOR

Bureau of Land Management

[BLM_AZ_FRN_MO4500175810]

Notice of Intent To Prepare an Environmental Impact Statement and Notice of Segregation for the Proposed Ranegras Plains Energy Center Project, La Paz County, AZ

AGENCY: Bureau of Land Management, Interior.

ACTION: Notice of intent and segregation.

SUMMARY: In compliance with the National Environmental Policy Act of 1969, as amended (NEPA), and the Federal Land Policy and Management Act of 1976, as amended (FLPMA), the Bureau of Land Management (BLM) Yuma Field Office, Yuma, Arizona, intends to prepare an Environmental Impact Statement (EIS) to consider the effects of the Ranegras Plains Energy Center Project (Project) and by this notice is announcing the beginning of the scoping process to solicit public comments and identify issues. The BLM also announces the segregation of 4,763 acres of public lands from appropriation under the public land laws, including the Mining Law, but not the mineral leasing or materials acts, for a period of 2 years from the date of publication of this notice, subject to valid existing rights. This segregation will facilitate the orderly administration of the public lands while the BLM considers potential solar and battery energy storage development on the described parcels.

DATES: This notice initiates the public scoping process for the EIS. The BLM requests that the public submit comments concerning the scope of the analysis, potential alternatives, and identification of relevant information and studies by December 11, 2023. To afford the BLM the opportunity to consider issues raised by commenters in the Draft EIS, please ensure your comments are received prior to the close of the 30-day scoping period or 15 days after the last public meeting, whichever is later. A virtual public scoping meeting will be held 2 to 3 weeks after publication of this notice; the meeting date will be announced on the Project ePlanning website at least 15 days prior to the meeting. The segregation for the public lands identified in this notice takes effect on November 9, 2023.

ADDRESSES: You may submit comments on issues related to the Proposed Ranegras Plains Energy Center Project by any of the following methods:

• Website: https://eplanning.blm.gov/eplanning-ui/project/2020050/510.

• Email: BLM_AZ_CRD_Solar@blm.gov.

• Mail: BLM Yuma Field Office, Attention: Ranegras Plains Energy Center Project, 7341 E 30th Street, Yuma, AZ 85365.

Documents pertinent to this proposal may be examined online at the Project's ePlanning website: https://eplanning.blm.gov/eplanning-ui/project/2020050/510 and at the Yuma Field Office.

FOR FURTHER INFORMATION CONTACT: Derek Eysenbach, Project Manager, at deysenbach@blm.gov, the mailing address above, or by phone at (602) 417-9505. Contact Mr. Eysenbach to have your name added to our mailing list. Individuals in the United States who are deaf, deafblind, hard of hearing, or have a speech disability may dial 711 (TTY, TDD, or TeleBraille) to access telecommunications relay services for contacting Mr. Eysenbach. Individuals outside the United States should use the relay services offered within their country to make international calls to the point-of-contact in the United States.

SUPPLEMENTARY INFORMATION: The proposed Project location is approximately 30 miles east of Quartzsite, Arizona, along the south side of Interstate 10 near the Vicksburg Road exit. The Project would have a generating capacity of up to 700 megawatts alternating current and consist of solar photovoltaic modules, a battery energy storage system, electrical collection lines, a switchyard, operations and maintenance facilities, access roads, and an 11-mile-long, 500-kilovolt generation-tie transmission line (gen-tie line) to connect to the Delaney Colorado River Transmission Ten West Link Series Compensation Station.

Purpose and Need for the Proposed Action

The purpose and need for the action is to respond to Ranegras Plains Energy Center, LLC's application for a right-of-way (ROW) to construct, operate, maintain, and decommission a solar photovoltaic and battery energy storage project and associated facilities on public land administered by the BLM, consistent with Title V of FLPMA, regulations at 43 Code of Federal Regulations (CFR) 2800, and other applicable laws and regulations. In making its decision to issue a ROW grant, the BLM must first consider conformance with existing resource management plans (43 CFR 1610.5-3).

Preliminary Proposed Action and Alternatives

The BLM has identified two preliminary alternatives: the No Action Alternative and the proposed action. The proposed action would authorize a ROW for development of a solar photovoltaic facility, battery energy storage system, and gen-tie line on up to 4,763 acres of BLM-administered public land in La Paz County, Arizona. The entire project, including the proposed solar array and gen-tie line, also includes approximately 1,100 acres of Arizona State Trust lands and 1 acre of private lands. The No Action Alternative would deny the ROW application and the Project. Through comments received in the public scoping period, the BLM may develop action alternatives that would reduce impacts to preliminary resource concerns, including wildlife connectivity, off-highway vehicle recreation and access, and grazing/rangeland uses. The BLM welcomes comments on all preliminary alternatives as well as suggestions for additional alternatives.

Summary of Expected Impacts

Anticipated impacts from the proposed Project include up to 4,763 acres of ground disturbance for the solar facility, a battery energy storage system, transmission facilities, operations and maintenance facilities, access roads, and temporary work areas. Potential impacts may include a reduction in authorized grazing; vegetation removal; recreation, access, and land use changes; wildlife and migratory bird impacts including habitat loss and potential direct mortalities during construction and operations; visual impacts including glint and glare and an increase in nighttime brightness; potential impacts to cultural resources and Native American concerns; and socioeconomic impacts. Known resources to be addressed in the analysis include, but are not limited to, air quality; visual resources; environmental justice; social and economic values; mining and minerals; land uses; Native American religious concerns; recreation; grazing/rangelands; cultural resources; wildlife; migratory birds; threatened, endangered, and sensitive species; soils; water resources; invasive species; and paleontology. Impact analysis will also consider the cumulative impacts to natural and cultural resources from reasonably foreseeable future projects in the area.

Anticipated Permits and Authorizations

In addition to the requested ROW grant, other Federal, State, and local authorizations would be required for the Project. These may include authorizations determined through consultation under the Endangered Species Act (16 United States Code (U.S.C.) 1536 et seq.), the Clean Water Act (33 U.S.C. 1251 et seq.), and other laws and regulations determined to be applicable to the Project.

Schedule for the Decision-Making Process

The BLM will provide additional opportunities for public participation consistent with NEPA, including a 45-day comment period on the Draft EIS. The Draft EIS is anticipated to be available for public review in fall 2024, with a record of decision expected in summer 2025.

Public Scoping Process

This notice of intent initiates the scoping period. The BLM will hold one virtual public scoping meeting (see the DATES and ADDRESSES sections above). The meeting date, time, and information on how to attend will be announced at least 15 days in advance on the Project ePlanning website at https://eplanning.blm.gov/eplanning-ui/project/2020050/510 and via news release. Project information and documents will also be posted on that website. Persons needing assistance (assistive technology, translators, or other assistance) should contact Mr. Eysenbach, Project Manager (see contact information above).

Segregation

Regulations at 43 CFR 2804.25(f) allow the BLM to segregate public lands included in an application for a ROW for solar energy development from the operation of the public land laws, including the Mining Law, by publication of a Federal Register notice. The BLM uses this authority to preserve its ability to approve, approve with modifications, or deny a proposed ROW, and to facilitate the orderly administration of the public lands. This segregation is subject to valid existing rights, including existing mining claims located before the date of this segregation notice. Licenses, permits, cooperative agreements, or discretionary land use authorizations of a temporary nature that would not impact lands identified in this notice may be allowed with the approval of a BLM authorized officer during the segregation period. As provided in the regulations, the segregation of lands in this notice will not exceed 2 years from the date of publication unless extended for up to an additional 2 years through publication of a new notice in the Federal Register. The segregation period will terminate and the land will automatically reopen to appropriation under the public land laws, including the Mining Law, at the earliest of the following dates: upon issuance of a decision by the authorized officer granting, granting with modifications, or denying the application for a ROW; without further administrative action at the end of the segregation provided for in the Federal Register notice initiating the segregation; or upon publication of a Federal Register notice terminating the segregation.

Legal Description for Parcel: The subject lands for the proposed solar facility are legally described as follows:

Solar Array

Gila and Salt River Meridian, Arizona

T. 3 N., R. 14 W.,

Secs. 17 and 18;

Sec. 19, lots 1 and 2, NE¼, E½NW¼, and N½SE¼;

Sec. 20, N½, N½SW¼, SE¼SW¼, and SE¼;

Secs. 21 and 22;

Sec. 23, SW¼NW¼, W½SW¼, and SE¼SW¼;

Sec. 25, SW¼SW¼;

Sec. 26, W½NE¼, NW¼, and S½;

Sec. 27, N½ and N½SE¼;

Sec. 28, N½NE¼, SE¼NE¼, and N½NW¼;

Sec. 35, NE¼NE¼.

T. 3 N., R. 15 W.,

Sec. 12, N½NE¼, SE¼;

Sec. 13, E½;

Sec. 24, N½NE¼.

The area described contains 4,674 acres, more or less, derived from GIS data received from the BLM Arizona State Office, on September 11, 2023.

Substation

Gila and Salt River Meridian, Arizona

T. 3 N., R. 15 W.,

Sec. 12, NE¼, those portions northerly of the northern alternative Gen-Tie route.

The area described contains 89 acres, more or less, derived from GIS data received from the BLM Arizona State Office, on September 11, 2023.

Lead and Cooperating Agencies

These Federal agencies have agreed to participate as Cooperating Agencies under a Memorandum of Understanding to Improve Public Land Renewable Energy Project Permit Coordination: the U.S. Fish and Wildlife Service, Bureau of Reclamation, Department of Defense, Department of Energy, and Environmental Protection Agency. Other Federal agencies, Tribal Nations, and State and local agencies wishing to be considered as a Cooperating Agency on this effort, either on the basis of their jurisdiction by law or special expertise, are invited to express their interest to Mr. Eysenbach, Project Manager (see FOR FURTHER INFORMATION CONTACT).

Responsible Official

The BLM Arizona State Director is the deciding official for this notice of segregation. The authorized officer and decision maker for the Project is the BLM Yuma Field Office Manager.

Nature of Decision To Be Made

The BLM will decide whether to approve, approve with modification(s), or deny issuance of a ROW grant to the applicant for the proposed Project.

Additional Information

The BLM will identify, analyze, and consider mitigation to address the reasonably foreseeable impacts to resources from the proposed action and all analyzed reasonable alternatives and, in accordance with 40 CFR 1502.14(e), include appropriate mitigation measures not already included in the proposed action or alternatives. Mitigation may include avoidance, minimization, rectification, reduction or elimination over time, and compensation; and may be considered at multiple scales, including the landscape scale.

The BLM will utilize and coordinate the NEPA process for this effort to help support compliance with applicable procedural requirements under the Endangered Species Act and section 106 of the National Historic Preservation Act (54 U.S.C. 306108) as provided in 36 CFR 800.2(d)(3), including public involvement requirements of Section 106. Information about historic and cultural resources and threatened and endangered species within the area potentially affected will assist the BLM in identifying and evaluating impacts to such resources.

The BLM will consult with Tribal Nations on a government-to-government basis in accordance with Executive Order 13175, BLM Manual Sections 1780, and other Departmental policies. Tribal concerns, including impacts on Indian trust assets and potential impacts to cultural resources, will be given due consideration. Federal, State, and local agencies, along with Tribal Nations and stakeholders that may be interested in or affected by the proposed Project that the BLM is evaluating, are invited to participate in the scoping process and, if eligible, may request or be requested by the BLM to participate in the development of the environmental analysis as a Cooperating Agency.

Before including your address, telephone number, email address, or other personal identifying information in your comment, you should be aware that your entire comment—including your personal identifying information—may be made publicly available at any time. While you can ask us in your comment to withhold your personal identifying information from public review, we cannot guarantee that we will be able to do so.

(Authority: 40 CFR 1501.9)

Gera Ashton,
Acting State Director.

[FR Doc. 2023-24744 Filed 11-8-23; 8:45 am]

BILLING CODE 4331-12-P